DEPARTMENT OF HEALTH AND HUMAN SERVICES

Centers for Disease Control and Prevention

[60Day-12-12DO]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Kimberly Lane, CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC National Healthy Worksite Program (NHWP)—New—National Center for Chronic Disease Prevention and Health Promotion (NCCDPHP), Centers for Disease Control and Prevention (CDC).

Background and Brief Description

In the United States, chronic diseases such as cancer, heart disease, and diabetes are among the leading causes of death and disability. Although chronic diseases are among the most common and costly health problems, they are also among the most preventable. Adopting healthy behaviors, such as eating nutritious foods, being physically active, and avoiding tobacco use, can prevent the devastating effects of these diseases and lead to reduced rates of obesity, cancer, heart disease, stroke, and diabetes.

Increasing health care costs, and decreases in employee productivity due to health-related factors, are leading American businesses to examine strategies to improve health and contain health care costs. Employers are recognizing the role they can play in creating a healthy work environment and providing their employees with opportunities to make healthy lifestyle choices. They increasingly look to CDC and other public health experts for guidance and solutions to combat the effects of chronic diseases on their employees and businesses.

To support these efforts, the Centers for Disease Control and Prevention (CDC) is establishing the National Healthy Worksite Program (NHWP), a comprehensive workplace health promotion program to address physical activity, nutrition, and tobacco use in the workplace. Participating worksites will create high quality workplace health programs by implementing programs, policies, and environmental supports that assist employees in adopting healthy behaviors. The NHWP is authorized by the Public Health Service Act and funded through the Prevention and Public Health Fund of the Patient Protection and Affordable Care Act (ACA).

CDC-funded NHWP support will be provided over a two-year period to an initial group of 100 worksites drawn from seven communities. The worksites will represent small, medium and large employers in a variety of industry sectors. The largest employers will be required to make an in-kind contribution to supplement the support provided through the NHWP. Support to be provided for worksites participating in the NHWP will include organizational assessment, guidance on strategies for supporting a culture of health, assistance in implementing a tailored workplace health improvement plan, and training. Support to be provided for participating employees will include individual health risk assessments, health coaching and education, and opportunities to participate in healthy lifestyle challenges. The NHWP will also provide workplace health program training to additional employers in the seven NHWP communities. CDC may increase the number of NHWP sites that receive assistance, if funding becomes available.

CDC plans to collect information needed to select the initial group of participating NHWP worksites; to describe implementation and costs of workplace health promotion programs at these sites over the initial two-year period of support; to examine the effects of workplace health programs on employee access and opportunity to engage in activities that support a healthy lifestyle; and to quantify reductions in individual health risks and improvements in productivity. In addition, for up to one year after the two-year implementation period, CDC will collect information needed to assess program sustainability. Respondents will include employers, employees, and support staff at sites participating in the NHWP. To gain insight into training needs, barriers to participation, and other issues related to program sustainability, information will also be collected from additional employers in NHWP communities.

There are no costs to participants other than their time, with the exception of the in-kind contribution for large employers. Participation in the NHWP is voluntary for both worksites and employees at those sites.

OMB approval is requested for three years. Information will be used to evaluate the NHWP, to identify success drivers for building and maintaining a successful workplace health program, and to develop tools and resources for additional employers who are interested in establishing workplace health programs.

Estimated Annualized Burden Hours
Type of respondent | Form name | Number of respondents | Number of responses per respondent | Average burden per response (in hours) | Total burden (in hours)
| Employer Interview Guide | 100 | 1 | 20/60 | 33
| Organizational Assessment | 67 | 2 | 30/60 | 67
| Eligibility File | 32 | 5 | 15/60 | 40
Employers Participating in the NHWP | Discussion Guide for Steering Committee Members | 4 | 1 | 30/60 | 2
| Discussion Guide for Wellness Committee Members | 34 | 1 | 30/60 | 17
| Employer Follow Up Survey | 33 | 1 | 15/60 | 8
Additional Community Employers | Employer Engagement Feedback Survey | 70 | 1 | 10/60 | 12
| Employer Follow Up Survey | 166 | 1 | 15/60 | 42
| All Employee Survey | 3,000 | 2 | 30/60 | 3,000
| Health Assessment | 4,000 | 2 | 30/60 | 4,000
| Success Story Consent and Questionnaire, | 400 | 1 | 10/60 | 67
| Satisfaction Survey | 2,000 | 1 | 15/60 | 500
| Lower Your Weight by Eight Challenge Log | 2,000 | 1 | 1 | 2,000
Employees Participating in the NHWP | Step into Health Challenge Log | 2,000 | 1 | 30/60 | 1,000
| Mix it Up Challenge Log | 2,000 | 1 | 30/60 | 1,000
| Quench Your Thirst Challenge Log | 2,000 | 1 | 30/60 | 1,000
| Feel Fit with Fiber Challenge Log | 2,000 | 1 | 30/60 | 1,000
| Maintain Don't Gain Challenge Log | 2,000 | 1 | 1 | 2,000
| Nutrition/Lifestyle Tracking Log | 2,000 | 1 | 30/60 | 1,000
Total |  |  |  |  | 16,788

Kimberly Lane,
Reports Clearance Officer, Centers for Disease Control and Prevention.

[FR Doc. 2012-3489 Filed 2-14-12; 8:45 am]

BILLING CODE 4163-18-P